ENVIRONMENTAL PROTECTION AGENCY

40 CFR Part 52

[EPA-R01-OAR-2020-0327; FRL-10024-76-Region 1]

Air Plan Approval; Maine; Infrastructure State Implementation Plan Requirements for the 2015 Ozone Standard and Negative Declaration for the Oil and Gas Industry for the 2008 and 2015 Ozone Standards; Correction

AGENCY: Environmental Protection Agency (EPA).

ACTION: Final rule; correction.

SUMMARY: The Environmental Protection Agency (EPA) is correcting a final rule that was published in the Federal Register on May 13, 2021 which will be effective on June 14, 2021. The final rule approved a State Implementation Plan (SIP) revision submitted by the State of Maine which addresses the infrastructure requirements of the Clean Air Act (CAA or Act) for the 2015 ozone National Ambient Air Quality Standards (NAAQS); as well as a SIP revision containing amendments to Maine's 06-096 CMR Chapter 110, “Ambient Air Quality Standards,” and SIP revisions submitted by Maine that provide the state's determination, via a negative declaration for the 2008 and 2015 ozone standards, that there are no facilities within its borders subject to EPA's 2016 Control Technique Guideline (CTG) for the oil and gas industry. This correction does not change any final action taken by EPA on May 13, 2021; this action merely provides further clarification on the amendments to the regulatory language contained in the Code of Federal Regulations (CFR) and includes a minor change to the CFR to rearrange the location of the entry for Maine's previously approved Chapter 166 regulation.

DATES: This rule is effective on June 14, 2021.

ADDRESSES: EPA has established a docket for this action under Docket Identification No. EPA-R01-OAR-2020-0327. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Ariel Garcia, Air Quality Branch, U.S. Environmental Protection Agency, EPA Region 1, 5 Post Office Square—Suite 100, (Mail code 05-2), Boston, MA 02109—3912, tel. (617) 918-1660, email garcia.ariel@epa.gov.

SUPPLEMENTARY INFORMATION: In FR doc. 2021-06237 at 86 FR 26181 in the issue of May 13, 2021, the following corrections to the regulatory text are made:

§ 52.1019 [Corrected]

1. On page 26182, in the third column, in § 52.1019, in amendment 2, add the section heading immediately following the instruction to read as follows:

“§ 52.1019 Identification of plan-conditional approval.”

§ 52.1020 [Corrected]

2. On page 26183, in the third column, in § 52.1020, in amendment 3, correct the instruction to read as follows:

“3. In § 52.1020(c) amend the table by:

a. Revising the entry for “Chapter 110”;

b. Adding entries for “38 MRSA § 341-A(3)(D)” and “38 MRSA § 341-C(2) and 341-C(8)” following the entry for “38 MRSA Section 341-C(7)”.

The revisions and additions read as follows:”

3. On page 26183, in the first column, in § 52.1020, in amendment 4, correct the instruction to read as follows:

“4. In § 52.1020(e), amend the table by adding entries for “Submittal to meet Clean Air Act Section 110(a)(2) Infrastructure Requirements for the 2015 Ozone National Ambient Air Quality Standard”; “Conflict of Interest Statute”; and “Negative declaration for the 2016 Control Techniques Guideline for the Oil and Natural Gas Industry for the 2008 and 2015 ozone standards” at the end of the table, to read as follows:”

Dated: June 2, 2021.
Deborah Szaro,
Acting Regional Administrator, EPA Region 1.

[FR Doc. 2021-11958 Filed 6-9-21; 8:45 am]

BILLING CODE 6560-50-P